DEPARTMENT OF COMMERCE

International Trade Administration

[A-570-806]

Silicon Metal From the People's Republic of China: Notice of Rescission of New Shipper Antidumping Duty Review

AGENCY: Import Administration, International Trade Administration, Department of Commerce.

ACTION: Notice of Rescission of New Shipper Antidumping Duty Review.

EFFECTIVE DATE: March 1, 2001.

SUMMARY: On August 16, 2000 the Department published in the Federal Register (65 FR 49965) a notice announcing the initiation of a new shipper review of the antidumping duty order on silicon metal from the People's Republic of China (PRC), covering Groupstars Chemical LLC for the period June 1, 1999 through May 31, 2000. This new shipper review is now being rescinded since Groupstars Chemical LLC (Groupstars Chemical) is not an exporter or producer of subject merchandise as required by 19 CFR 351.214(b)(1).

FOR FURTHER INFORMATION CONTACT: Thomas Gilgunn or Douglas Campau, AD/CVD Enforcement Group III, Import Administration, U.S. Department of Commerce, 14th Street and Constitution Avenue, NW., Washington, DC 20230, telephone: (202) 482-0648 and (202) 482-1395, respectively.

SUPPLEMENTARY INFORMATION:

Background

On June 30, 2000, Groupstars Chemical, requested a new shipper review of the antidumping duty order on silicon metal from the PRC in accordance with 19 CFR 351.214(b). In its request, Groupstars Chemical certified that it was a producer and exporter of silicon metal. Based on this information, the Department initiated a new shipper review of this order on August 16, 2000, in accordance with 19 CFR 351.221(c)(1)(i). However, a review of information now on the record with respect to Groupstars Chemical has led us to conclude that Groupstars Chemical is not, in fact, a producer or exporter of silicon metal. Based on Groupstars Chemical's questionnaire response, the Department determined that Groupstars Chemical was only a U.S. “marketing company” and not a producer or exporter of silicon metal.

Rescission of Review

Since Groupstars Chemical is not an exporter or producer of silicon metal as required by 19 CFR 351.214(b)(1), the Department is hereby rescinding Groupstars Chemical's new shipper review.

This determination is issued and published in accordance with section 751 of the Tariff Act of 1930, as amended (19 U.S.C. 1675) and 19 CFR 351.214(f). Effective January 20, 2001, Bernard T. Carreau is fulfilling the duties of the Assistant Secretary for Import Administration.

Dated: January 31, 2001.
Bernard T. Carreau,
Deputy Assistant Secretary, AD/CVD Enforcement II.

[FR Doc. 01-5014 Filed 2-28-01; 8:45 am]

BILLING CODE 3510-DS-P